DEPARTMENT OF HOMELAND SECURITY

Federal Emergency Management Agency

[Docket ID FEMA-2017-0002; Internal Agency Docket No. FEMA-B-1771]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 29, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1771, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: December 13, 2017.
Roy E. Wright,
Deputy Associate Administrator for Insurance and Mitigation, Department of Homeland Security, Federal Emergency Management Agency.

Community | Community map repository address
Baldwin County, Alabama and Incorporated Areas
Project: 09-04-8085S Preliminary Date: July 31, 2017
City of Bay Minette | City Hall, 301 D'Olive Street, Bay Minette, AL 36507.
City of Daphne | City Hall, 1705 Main Street, Daphne, AL 36526.
City of Fairhope | Building Department, 555 South Section Street, Fairhope, AL 36533.
City of Foley | Community Development Building, 200 North Alston Street, Foley, AL 36535.
City of Gulf Shores | Building Department, 205 Clubhouse Drive, Suite B, Gulf Shores, AL 36542.
City of Orange Beach | Floodplain Administrator's Office, 4101 Orange Beach Boulevard, Orange Beach, AL 36561.
City of Robertsdale | City Hall, 22647 Racine Street, Robertsdale, AL 36567.
City of Spanish Fort | Building Department, 7361 Spanish Fort Boulevard, Spanish Fort, AL 36527.
Town of Elberta | Civic Center, 25070 Pine Street, Elberta, AL 36530.
Town of Loxley | Town Hall, 1089 South Hickory Street, Loxley, AL 36551.
Town of Magnolia Springs | Town Hall, 12191 Magnolia Springs Highway, Magnolia Spings, AL 36555.
Town of Perdido Beach | Town Hall, 9212 County Road 97, Perdido Beach, AL 36530.
Town of Silverhill | Town Hall, 15965 Silverhill Avenue, Silverhill, AL 36576.
Town of Summerdale | Baldwin County Building Inspection Department, 201 East Section Avenue, Foley, AL 36535.
Unincorporated Areas of Baldwin County | Baldwin County Building Inspection Department, 201 East Section Avenue, Foley, AL 36535.
New London County, Connecticut (All Jurisdictions)
Project: 13-01-0378S Preliminary Date: August 9, 2017
Town of North Stonington | Old Town Hall, 40 Main Street, North Stonington, CT 06359.
Town of Stonington | Town Hall, 152 Elm Street, Stonington, CT 06378.
Town of Voluntown | Town Hall, 115 Main Street, Voluntown, CT 06384.
Canadian County, Oklahoma and Incorporated Areas
Project: 13-06-0690S Preliminary Date: February 15, 2017
City of Piedmont | City Hall, 314 Edmond Road Northwest, Piedmont, OK 73078.
Garfield County, Oklahoma and Incorporated Areas
Project: 13-06-0690S Preliminary Date: February 15, 2017
City of Enid | City Hall, 401 West Owen K. Garriott Road, Enid, OK 73701.
Unincorporated Areas of Garfield County | Garfield County Courthouse, 114 West Broadway, Room 105, Enid, OK 73701.
Kingfisher County, Oklahoma and Incorporated Areas
Project: 13-06-0690S Preliminary Date: August 10, 2017
City of Kingfisher | City Hall, 301 North Main Street, Kingfisher, OK 73750.
Unincorporated Areas of Kingfisher County | Kingfisher County Courthouse, 101 South Main Street, Kingfisher, OK 73750.
Logan County, Oklahoma and Incorporated Areas
Project: 13-06-0690S Preliminary Date: February 15, 2017
Unincorporated Areas of Logan County | Logan County Courthouse Annex, 312 East Harrison Street, Guthrie, OK 73044.
Kent County, Rhode Island (All Jurisdictions)
Project: 13-01-0378S Preliminary Date: August 9, 2017
Town of Coventry | Planning Department, 1675 Flat River Road, Coventry, RI 02816.
Town of West Greenwich | Town Hall Annex South, Building Official's Office, 302 Victory Highway, West Greenwich, RI 02817.
Washington County, Rhode Island (All Jurisdictions)
Project: 13-01-0378S Preliminary Date: August 9, 2017
Narragansett Indian Tribe | Administration Building, 4533 South County Trail, Charlestown, RI 02813.
Town of Charlestown | Town Hall, Building Department, 4540 South County Trail, Charlestown, RI 02813.
Town of Exeter | Town Hall, Town Clerk's Office, 675 Ten Rod Road, Exeter, RI 02822.
Town of Hopkinton | Town Hall, 1 Town House Road, Hopkinton, RI 02833.
Town of North Kingstown | Department of Public Works, Engineering Department, 2050 Davisville Road, North Kingstown, RI 02852.
Town of Richmond | Richmond Town Hall, 5 Richmond Townhouse Road, Wyoming, RI 02898.
Town of South Kingstown | South Kingstown Town Hall, 180 High Street, Wakefield, RI 02879.
Town of Westerly | Town Hall, 45 Broad Street, Westerly, RI 02891.

[FR Doc. 2017-28186 Filed 12-28-17; 8:45 am]

BILLING CODE 9110-12-P